ENVIRONMENTAL PROTECTION AGENCY

[EPA-HQ-OPP-2011-0507; FRL-8879-7]

Formetanate HCl and Acephate; Notice of Receipt of Requests to Voluntarily Amend Registrations To Terminate Certain Uses

AGENCY: Environmental Protection Agency (EPA).

ACTION: Notice.

SUMMARY: In accordance with section 6(f)(1) of the Federal Insecticide, Fungicide, and Rodenticide Act (FIFRA), as amended, EPA is issuing a notice of receipt of requests by registrants to voluntarily amend their formetanate HCl and acephate product registrations to delete uses. The requests would delete formetanate HCl use in or on apple, pear and peach commodities, and acephate use in or on succulent green beans. The requests would not terminate the last formetanate HCl or acephate products registered for use in the United States. EPA intends to grant these requests at the close of the comment period for this announcement unless the Agency receives substantive comments within the comment period that would merit its further review of the request, or unless one or more of the registrants withdraws its request. If these requests are granted, any sale, distribution, or use of products listed in this notice will be permitted after the uses are deleted only if such sale, distribution, or use is consistent with the terms as described in the final order.

DATES: Comments must be received on or before August 12, 2011.

ADDRESSES: Submit your comments, identified by docket identification (ID) number EPA-HQ-OPP-2011-0507, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2011-0507. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: For pesticide specific information contact: The Chemical Review Manager listed for the pesticide of interest:

Active Ingredient | Chemical Review Manager, Telephone Number, E-mail Address
Formetanate HCl | James Parker, (703) 306-0469 parker.james@epa.gov
Acephate | Kelly Ballard, (703) 305-8126 ballard.kelly@epa.gov

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests To Amend Registrations To Delete Uses

This notice announces receipt by EPA of requests from several registrants including Amvac Chemical Corporation, United Phosphorus, Inc., ChemStarr, LLC, Makhteshim Agan of North America, Inc., and Tide International, USA, Inc., to delete the succulent green bean use from acephate product registrations. This notice also announces receipt by EPA of a request from Gowan Company to delete apple, peach and pear uses from formetanate HCl product registrations.

In a letter dated May 31, 2011, Gowan Company requested that the EPA amend to delete apple, peach and pear uses from formetanate HCl product registrations identified in Table 1 of Unit III. Specifically, Gowan Company is requesting to amend product registrations to delete formetanate HCl use on apples, peaches and pears in order to reduce dietary exposure and risks. This action by Gowan Company will aid in mitigating dietary risks identified in a December 7, 2010, dietary risk assessment. More information regarding this situation is available in the formetanate HCl docket (EPA-HQ-OPP-2010-0939). Formetanate HCl is a miticide/insecticide used on assorted crops. There are no residential uses for formetanate HCl products. Registered products containing formetanate HCl are intended to control thrips, lygus bugs, stink bugs, mites, scale, campylloma, and spiders. Currently, formetanate HCl is only available as a wettable powder formulation sold in water soluble bags. The deletion of these uses will not terminate the last formetanate HCl products registered in the United States.

In letters dated April 20, 2011 (Makhteshim Agan of North America, Inc.), May 10, 2011 (United Phosphorus, Inc.), May 13, 2011 (Amvac Chemical Corporation), and May 25, 2011 (ChemStarr, LLC., and Tide International, USA, Inc.), registrants requested that EPA amend their product registrations to delete the succulent green bean use from acephate product registrations which are identified in Table 1 of Unit III. Specifically, the registrants are requesting to amend product registrations to delete acephate use on succulent green beans. Acephate is an organophosphate insecticide, and is registered for use on a variety of field, fruit, and vegetable crops, and in food handling establishments. It is also registered for outdoor use on field-grown ornamentals, pasture, rangeland, sod and golf course turf, and indoor use in institutional settings. The deletion of these uses will not terminate the last acephate products registered in the United States.

III. What action is the agency taking?

This notice announces receipt by EPA of requests from registrants to delete certain uses of formetanate HCl and acephate product registrations. The affected products and the registrants making the request are identified in Tables 1 and 2 of this unit.

Unless a request is withdrawn by the registrant or if the Agency determines that there are substantive comments that warrant further review of this request, EPA intends to issue an order amending the affected registrations.

Table 1—Formetanate HCl and Acephate Product Registrations With Pending Requests for Amendment
Registration No. | Product name | Chemical | Uses to be deleted
10163-264 | Formetanate Hydrochloride Technical | Formetanate HCl | Apple, Peach & Pear.
10163-265 | Carzol SP Miticide/Insecticide in Water Soluble Packaging | Formetanate HCl | Apple, Peach & Pear.
WA010033 | Carzol SP Insecticide in Water Soluble Packaging | Formetanate HCl | Apple & Pear.
5481-8975 | Orthene Technical | Acephate | Succulent Green Beans.
70506-1 | Acephate 75 Insecticide | Acephate | Succulent Green Beans.
70506-2 | Acephate 90 Insecticide | Acephate | Succulent Green Beans.
70506-3 | Acephate Technical | Acephate | Succulent Green Beans.
70506-8 | Acephate 97UP Insecticide | Acephate | Succulent Green Beans.
70506-71 | Acephate 90SP Manufacturing Use Product | Acephate | Succulent Green Beans.
70506-76 | Acephate 90DF Insecticide | Acephate | Succulent Green Beans.
81964-1 | Acephate Technical | Acephate | Succulent Green Beans.
81964-3 | Acephate 90% SP | Acephate | Succulent Green Beans.
83558-35 | Acephate Technical | Acephate | Succulent Green Beans.
84229-7 | Tide Acephate 90 WDG | Acephate | Succulent Green Beans.

Table 2 of this unit includes the name and address of record for the registrant of the products listed in Table 1 of this unit, in sequence by EPA company number. This number corresponds to the first part of the EPA registration numbers of the products listed in Table 1 of this unit.

Table 2—Registrants Requesting Voluntary Amendments
EPA Company No. | Company name and address
5481 | Amvac Chemical Corporation, 4695 MacArthur Court, Suite 1250, Newport Beach, CA 92660.
10163 | Gowan Company, P.O. Box 5569, Yuma, AZ 85366-5569.
70506 | United Phosphorus, Inc., 630 Freedom Business Center, Suite 402, King of Prussia, PA 19406.
81964 | ChemStarr, LLC, 21 Hubble, Irvine, CA 92618.
83558 | Makhteshim Agan of North America, Inc., 4515 Falls of Neuse Road, Suite 300, Raleigh, NC 27609.
84229 | Tide International, USA, Inc., 21 Hubble, Irvine, CA 92618.

IV. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The formetanate HCl and acephate registrants have requested that EPA waive the 180-day comment period. Accordingly, EPA will provide a 30-day comment period on the proposed requests.

V. Procedures for Withdrawal of Requests

Registrants who choose to withdraw a request for product cancellation or use deletion should submit the withdrawal in writing to the person listed under FOR FURTHER INFORMATION CONTACT. If the products have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the requests for amendments to delete uses are granted, the Agency intends to publish the cancellation order in the Federal Register.

In any order issued in response to these requests for amendments to delete uses, EPA proposes to include the following provisions for the treatment of any existing stocks of the products listed in Table 1 of Unit III.

Formetanate HCl registrants will be permitted to sell and distribute existing stocks of products under the previously approved labeling until November 30, 2011. Thereafter, registrants will be prohibited from selling or distributing the products whose labels include the deleted uses identified in Table 1 of Unit III., except for export consistent with FIFRA section 17 or for proper disposal.

Persons other than the registrant may sell, distribute, or use existing stocks of products, including those of (24c) Special Local Needs Registration, whose labels include the deleted uses until December 31, 2013, provided that such sale, distribution, or use is consistent with the terms of the previously approved labeling on, or that accompanied, the deleted uses.

Once EPA has approved amended acephate product labels reflecting the requested amendments to delete the succulent green bean use, registrants will be permitted to sell or distribute products under the previously approved labeling for a period of 18 months after the date of Federal Register publication of the cancellation order, unless other restrictions have been imposed. Thereafter, registrants will be prohibited from selling or distributing the products whose labels include the deleted uses identified in Table 1 of Unit III., except for export consistent with FIFRA section 17 or for proper disposal.

List of Subjects

Environmental protection, Pesticides and pests.

Dated: June 30, 2011.
Richard P. Keigwin, Jr.,
Director, Pesticide Re-evaluation Division, Office of Pesticide Programs.

[FR Doc. 2011-17359 Filed 7-12-11; 8:45 am]

BILLING CODE 6560-50-P